DEPARTMENT OF HEALTH AND HUMAN SERVICES

Health Resources and Services Administration

Notice of Funding Extension for Rural Behavioral Health Workforce Centers—Northern Border Region

AGENCY: Health Resources and Services Administration (HRSA), Department of Health and Human Services.

ACTION: Notice of supplemental funding.

SUMMARY: HRSA will provide a performance period extension with supplemental funds to three fiscal year (FY) 21 award recipients with a period of performance ending on August 31, 2025. The supplemental funding will extend their current period of performance by 12 months to align with the FY 2022 award to an additional recipient, which has a period of performance from September 1, 2022, to August 31, 2025.

FOR FURTHER INFORMATION CONTACT: Jillian Causey, Division Deputy Director, Federal Office of Rural Health Policy, Health Resources and Services Administration, at jcausey@hrsa.gov and 301-443-1493.

SUPPLEMENTARY INFORMATION:

Intended Recipient(s) of the Award: Three FY 2021 award recipients: Mary Hitchcock Memorial Hospital—New Hampshire, Medical Care Development, Inc.—Maine, Vermont Association For Mental Health, Inc.—Vermont.

Amount of Non-Competitive Award: Three awards for $1,000,000 each.

Period of Performance: September 1, 2021, to August 31, 2025.

Assistance Listing (CFDA) Number: 93.912.

Award Instrument: Cooperative Agreement.

Authority: Section 711(b)(5) of the Social Security Act (42 U.S.C. 912(b)(5)).

Table 1—Recipients and Award Amounts
Grant No. | Award recipient name | State | Award amount
U2SRH43521 | Mary Hitchcock Memorial Hospital | NH | $1,000,000
U2SRH43522 | Medical Care Development, Inc | ME | 1,000,000
U2SRH43523 | Vermont Association for Mental Health Inc | VT | 1,000,000

Justification: The Northern Border Regional Commission (NBRC) is a federal/state partnership for economic and community development in northern Maine, New Hampshire, Vermont, and New York. NBRC was established by Congress in 2008 to help fund promising economic and community development projects. The states of Maine, New Hampshire, Vermont, and New York play a crucial role in the NBRC region.¹ In FY 2021, HRSA competitively funded three organizations in the NBRC states of Maine, New Hampshire, and Vermont for a period of performance of 3 years. In FY 2022, HRSA competitively funded another organization in the NBRC state of New York for a 3-year period of performance. HRSA is providing a 1-year extension of funding for the FY 2021 awards to align with the FY 2022 award. This would align all awards with a period of performance end date of August 31, 2025.

¹ https://www.nbrc.gov/content/northern-border-region.

HRSA is implementing this extension to continue the work of the three recipients because of their benefit to the NBRC region. During their project period, they have increased access to behavioral health and substance use disorder services and strengthened the behavioral health workforce in the NBRC region to improve the health outcomes of NBRC residents.

With program funding, recipients have provided scholarships to mental health rehabilitation technicians to work in rural communities and supported intern work, providing critically needed direct services to the region's neediest, rural residents. Recipients have also funded supervision for several behavioral health clinician positions that serve rural counties, bringing in social workers and postdoctoral psychologist fellows who were able to provide care where there previously had been none. Recipients also have increased access by connecting community members to important resources in their states, including how to find or become a peer recovery coach.

Recipients have also worked to strengthen the behavioral health workforce through training programs such as Project Extension for Community Healthcare Outcomes (Project ECHO, including Medications for Opioid Use Disorder Project ECHO and created the “Recovery Jobs for Beginners” program for individuals seeking to work as Peer Recovery Specialists. This program has provided rural communities in the NBRC region with peer recovery specialists where there often are few or none and increased provider skillsets and knowledge. In addition, recipients launched the Mental Health Peer Specialist Certification program within local community colleges in January 2024.

HRSA is implementing project period alignment of the three FY 2021 awards with the FY 2022 award recipient to allow for a seamless continuation of activities and trainings in the region to continue while also allowing all four organizations to identify sustainability strategies over the next fiscal year.

Carole Johnson,
Administrator.

[FR Doc. 2024-20584 Filed 9-10-24; 8:45 am]

BILLING CODE 4165-15-P